DEPARTMENT OF THE INTERIOR

National Park Service

[NPS-WASO-NRNHL-DTS#-32483; PPWOCRADI0, PCU00RP14.R50000]

National Register of Historic Places; Notification of Pending Nominations and Related Actions

AGENCY: National Park Service, Interior.

ACTION: Notice.

SUMMARY: The National Park Service is soliciting electronic comments on the significance of properties nominated before August 14, 2021, for listing or related actions in the National Register of Historic Places.

DATES: Comments should be submitted electronically by September 8, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 14, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

St. Francis County

Forrest City Colored Cemetery, SFC Rd. 702, south of AR 70, west of Margaret Dr., east of Union Pacific RR, Forrest, SG100007000

CALIFORNIA

Sacramento County

Hotel Lenhart, 1117-1131 9th St., Sacramento, SG100006998

San Francisco County

Alberta Candy Factory, 555 19th St., San Francisco, SG100006997

IDAHO

Shoshone County

Kellogg Boy Scout Cabin, 2 South Hill St., Kellogg, SG100007006

Miner's Hat, 300 East Cameron Ave., Kellogg, SG100007007

MAINE

Cumberland County

Greenwood Garden Playhouse, 32 Garden Pl., Portland, SG100006989

Piscataquis County

Dover-Foxcroft Commercial Historic District, 1-103 East Main St., Dover-Foxcroft, SG100006990

MASSACHUSETTS

Berkshire County

Lenox Village Historic District, Main, Church, Cliffwood, Franklin, Greenwood, High, Housatonic, Hubbard, Hynes, Kemble, Old Center, Tucker and Walker Sts.; Fairview and St. Ann's Ave.; Old Stockbridge and Ore Bed Rds.; Hillside Dr., Lenox, SG100006987

OKLAHOMA

Tulsa County

Pioneer Plaza (Tulsa Public Housing, 1966-1975 MPS), 901 North Elgin Ave., Tulsa, MP100007009

Hewgley Terrace (Tulsa Public Housing, 1966-1975 MPS), 420 South Lawton Ave., Tulsa, MP100007010

PENNSYLVANIA

Allegheny County

Gladstone School (Educational Resources of Pennsylvania MPS), 327 Hazelwood Ave., Pittsburgh, MP100006988

SOUTH CAROLINA

Aiken County

South Carolina Railroad, Address Restricted, Aiken vicinity, SG100006995

Charleston County

Robert Mills Manor, Bounded by Queen, Smith, and Logan Sts.; Including Cromwell Alley, Wilson St., and portions of Franklin St., Charleston, SG100006991

Richland County

Colonial Village Apartments, 3700 West Ave., Columbia, SG100006992

Saluda Apartments, 511-537 Saluda Ave., Columbia, SG100006993

Zion Baptist Church (Segregation in Columbia, South Carolina MPS), 801 Washington St., Columbia, MP100006996

TEXAS

El Paso County

Segundo Barrio Historic District, Roughly Bounded by South Santa Fe St., South Oregon St., East 9th Ave., Cotton St., Paisano Dr., and East Father Rahm Ave., El Paso, SG100006994

La Salle County

Welhausen School and Florita Plaza, 204 East Lane St., Cotulla, SG100007001

VERMONT

Bennington County

E. J. Bullock Block, 7012 Main St., Readsboro, SG100007005

Franklin County

Ovitt Grist Mill, 1796 Tyler Branch Rd., Enosburgh, SG100007004

WYOMING

Washakie County

West Side School (Educational Facilities in Wyoming, 1850-1960 MPS), 100 South 3rd St., Worland, MP100007002

Additional documentation has been received for the following resource:

ARKANSAS

Conway County

Morrilton Commercial Historic District (Additional Documentation), Roughly bounded by East Railroad Ave., East Broadway, North Division, and North Moose Sts., Morrilton, AD03000085

Nominations submitted by Federal Preservation Officer:

The State Historic Preservation Officer reviewed the following nominations and responded to the Federal Preservation Officer within 45 days of receipt of the nominations and supports listing the properties in the National Register of Historic Places.

CALIFORNIA

San Bernardino County

Mojave Road, Mojave Rd., Mojave National Preserve, Baker vicinity, SG100007003

Mojave Road, Mojave Rd., Mojave National Preserve, Cima vicinity, SG100007003

Mojave Road, Mojave Rd., Mojave National Preserve, Lanfair vicinity, SG100007003

Authority: Section 60.13 of 36 CFR part 60.

Dated: August 18, 2021.
Sherry A. Frear,
Chief, National Register of Historic Places/National Historic Landmarks Program.

[FR Doc. 2021-18186 Filed 8-23-21; 8:45 am]

BILLING CODE 4312-52-P